DEPARTMENT OF LABOR

Office of the Secretary

Submission for OMB Review; Comment Request

June 5, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contact Darrin King on 202-693-4129 (this is not a toll-free number) or E-Mail: king.darrin@dol.gov.

Comments should be sent to Office of Information and Regulatory Affairs, Attn: OMB Desk Officer for the Employment Standards Administration, Office of Management and Budget, Room 10235, Washington, DC 20503 (202-395-7316 / this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration (ESA).

Type of Review: Extension of a currently approved collection.

Title: 29 CFR Part 825, The Family and Medical Leave Act of 1993.

OMB Number: 1215-0181.

Frequency: On occasion.

Type of Response: Recordkeeping and third party disclosure.

Affected Public: Individuals or households; business or other for-profit; Not-for-profit institutions; farms; Federal Government; and State, Local, or Tribal Government.

Number of Respondents: 6,655,000.

Information collection requirement | Annual responses | Average response time | Annual burden hours
Employee Notice of Need for FMLA Leave | 4,150,000 | 0.02 | 69,167
Notice to Employees of FMLA Rights— WH-381: Providing Guidance | 388,000 | 0.17 | 64,667
Providing Written Notice to Employees | 4,150,000 | 0.08 | 345,833
Medical Certifications and Recertifications (Serious Health Condition)—WH-380:
Medical Certifications—Initial | 1,660,000 | 0.33 | 553,333
Medical Certifications—Additional | 166,000 | 0.33 | 55,333
Medical Recertifications | 83,000 | 0.33 | 27,667
Fitness-for-Duty Medical Certifications | 207,500 | 0.17 | 34,583
Notice to Employees of Change 12-Month Period for Determining FMLA Entitlement | 38,800 | 0.17 | 6,467
Key Employee Notification:
First Notice | 41,500 | 0.08 | 3,458
Second Notice | 20,750 | 0.08 | 1,729
Recordkeeping | 4,150,000 | 0.05 | 207,500
Total | 15,055,550 |  | 1,369,737

Total Annualized capital/startup costs: $0.

Total annual costs (operating/maintaining systems or purchasing services): $0.

Description: The Family and Medical Leave Act of 1993 (FMLA), Public Law 103-3, 107 Stat. 6, 29 U.S.C. 2601, which became effective on August 5, 1993, requires private sector employers of 50 or more employees, and public agencies to provide up to 13 weeks of unpaid, job-protected leave during any 12-month period to eligible employees for certain family and medical reasons. This ICR contains recordkeeping and notification requirements associated with the Act and implementing regulations found at 29 CFR Part 825. Two optional forms are included in this information collection request. The WH-380, Certification of Health Care Provider, may be used to certify a serious health condition under FMLA. The WH-381, Employer Response to Employee Request for Family or Medical Leave may be used by an employer to respond to a leave request under FMLA. Both forms are third-party notifications and are sent to the employee; they are not submitted to the Department of Labor. This information collection is currently approved for use through July 31, 2003.

The Department of Labor seeks OMB approval for the extension of this information collection in order to ensure that both employers and employees are aware of and can exercise their rights and meet their respective obligations under FMLA, and in order for the Department of Labor to carry out its statutory obligation under FMLA to investigate and ensure employer compliance have been met.

Ira L. Mills,
Departmental Clearance Officer.

[FR Doc. 03-15342 Filed 6-17-03; 8:45 am]

BILLING CODE 4510-27-P